Proclamation 9315 of August 31, 2015

National Wilderness Month, 2015

By the President of the United States of America

A Proclamation

The beauty of America's wilderness has always been central to our character as a Nation. Our untrammeled lands and waters are part of a rich legacy that is carried forward from one generation to the next, reflecting a spirit of conservation deeply rooted in the quintessential American belief that each of us has an equal share in these special places and an equal responsibility to protect them. Every day, individuals across our country embody this idea by maintaining our trails and parks, working to restore cherished sites, and inspiring communities to preserve the areas they treasure.

Since I took office, I have been committed to protecting the pristine areas that enrich our lives and our country. That is why I have set aside more lands and waters than any other President in our history, including by designating more than 2 million new acres of wilderness. And to ensure our children have the chance to experience the wonder within our protected lands, my Administration launched the Every Kid in a Park initiative, which provides free admission to public lands for all fourth graders and their families—enabling more young Americans to discover the land with which our Nation has been blessed.

For more than a half-century, the Land and Water Conservation Fund has helped to protect these iconic places and make it easier for families to spend time outside. The Fund has advanced over 40,000 local projects by making critical investments, including in National Parks, baseball fields, battlefields, and community green spaces. I continue to call on the Congress to act to ensure this vital tool of environmental stewardship and community development does not expire by fully and permanently funding the Land and Water Conservation Fund, and as President, I will keep working to make it easier for all families to enjoy our great outdoors no matter where they live.

Our National Parks, wildlife refuges, forests, and public lands are also essential for expanding economic opportunity, creating jobs, and fueling local economies. My Administration is committed to partnering with cities and States to make sure they have the resources they need to protect these outdoor spaces in the face of extreme weather events that imperil our security and the livelihood of our communities. Climate change threatens our lands and waters, as well as the health and well-being of future generations. That is why we have taken commonsense actions to combat climate change, ensure the resilience of our neighborhoods, and protect our natural resources for our children and grandchildren.

During National Wilderness Month, let us recommit to preserving the places that remind us of who we are and of all that our Nation is. Let us renew our resolve to protect America's incomparable natural splendor in our time so it can endure as a birthright of every citizen and shape the lives and dreams of generations to come.

NOW, THEREFORE, I, BARACK OBAMA, President of the United States of America, by virtue of the authority vested in me by the Constitution and the laws of the United States, do hereby proclaim September 2015 as National Wilderness Month. I invite all Americans to visit and enjoy our wilderness areas, to learn about their vast history, and to aid in the protection of our precious national treasures.

IN WITNESS WHEREOF, I have hereunto set my hand this thirty-first day of August, in the year of our Lord two thousand fifteen, and of the Independence of the United States of America the two hundred and fortieth.

[FR Doc. 2015-22333

Filed 9-2-15; 11:15 am]

Billing code 3295-F5